DEPARTMENT OF HEALTH AND HUMAN SERVICES

Health Resources and Services Administration

Advisory Council; Notice of Meeting

In accordance with section 10(a)(2) of the Federal Advisory Committee Act (Pub. L. 92-463), announcement is made of the following National Advisory body scheduled to meet during the month of May 2000.

Name: National Advisory Council on Migrant Health.

Date and Time: May 4, 2000; 9 a.m.-5 p.m.; May 5, 2000; 9 a.m.-5 p.m.

Place: Portland Marriott Downtown, 1401 SW Naito Parkway, Portland, Oregon 97201, Phone: (503) 226-7600; Fax: (503) 221-1789.

The meeting is open to the public.

Agenda: This will be a meeting of the Council. The agenda includes an overview of general Council business activities and priorities. Topics of discussion will include the Year 2000 recommendations, Migrant issues in the Upper Northwest, and updates on research related to the Migrant Health Program. The Council meeting is being held in conjunction with the National Association of Community Health Centers, annual National Farmworker Health Conference, May 5-7, 2000.

Anyone requiring information regarding the subject Council should contact Judy Rodgers, Migrant Health Program, staff support to the National Advisory Council on Migrant Health, Bureau of Primary Health Care, Health Resources and Services Administration, 4350 East-West Highway, Bethesda, Maryland 20814, Telephone (301) 594-4304.

Agenda items are subject to change as priorities indicate.

Dated: April 12, 2000.
Jane M. Harrison,
Director, Division of Policy Review and Coordination.

[FR Doc. 00-9583 Filed 4-17-00; 8:45 am]

BILLING CODE 4160-15-P